DEPARTMENT OF AGRICULTURE

Agricultural Research Service

Notice of Intent To Grant Exclusive License; Correction

AGENCY: Agricultural Research Service, USDA.

ACTION: Notice of Intent To Grant Exclusive License; correction.

SUMMARY: The Agricultural Research Service published in the Federal Register of August 11, 2004, a Notice of Federal Invention Available for Licensing and Intent to Grant Exclusive License to Nutrition 21, Inc., of Purchase, New York, to U.S. Patent 6,689,383, “Chromium-Histidine Complexes as Nutrient Supplements.” The notice was inadvertently published as a Notice of Availability and referenced the incorrect issue date for U.S. Patent 6,689,383, “Chromium-Histidine Complexes as Nutrient Supplements.” The corrected Action is Notice of Intent to Grant Exclusive License, and the correct issue date for U.S. 6,689,383, “Chromium-Histidine Complexes as Nutrient Supplements” is February 10, 2004.

DATES: October 12, 2004.

ADDRESSES: Send comments to: USDA, ARS, Office of Technology Transfer, 5601 Sunnyside Avenue, Room 4-1174, Beltsville, Maryland 20705-5131.

FOR FURTHER INFORMATION CONTACT: June Blalock of the Office of Technology Transfer at the Beltsville address given above; telephone: (301) 504-5989.

Michael D. Ruff,
Assistant Administrator.

[FR Doc. 04-20351 Filed 9-8-04; 8:45 am]

BILLING CODE 3410-03-P